DEPARTMENT OF AGRICULTURE

Food Safety and Inspection Service

[Docket No. FSIS-2014-0003]

International Standard-Setting Activities

AGENCY: Office of Food Safety, USDA.

ACTION: Notice.

SUMMARY: This notice informs the public of the sanitary and phytosanitary standard-setting activities of the Codex Alimentarius Commission (Codex), in accordance with section 491 of the Trade Agreements Act of 1979, as amended, and the Uruguay Round Agreements Act. This notice also provides a list of other standard-setting activities of Codex, including commodity standards, guidelines, codes of practice, and revised texts. This notice, which covers the time periods from June 1, 2013, to May 31, 2014, and June 1, 2014, to May 31, 2015, seeks comments on standards under consideration and recommendations for new standards.

ADDRESSES: FSIS invites interested persons to submit comments on this notice. Comments may be submitted by one of the following methods:

• Federal eRulemaking Portal: This Web site provides the ability to type short comments directly into the comment field on this Web page or attach a file for lengthier comments. Go to http://www.regulations.gov. Follow the on-line instructions at that site for submitting comments.

• Mail, including CD-ROMs, etc.: Send to Docket Clerk, U.S. Department of Agriculture, Food Safety and Inspection Service, Docket Clerk, Patriots Plaza 3, 1400 Independence Avenue SW., Mailstop 3782, Room 8-163A, Washington, DC 20250-3700.

• Hand- or courier-delivered submittals: Deliver to Patriots Plaza 3, 355 E Street SW., Room 8-163A, Washington, DC 20250-3700.

Instructions: All items submitted by mail or electronic mail must include the Agency name and docket number FSIS-2014-0003. Comments received in response to this docket will be made available for public inspection and posted without change, including any personal information, to http://www.regulations.gov.

Docket: For access to background documents or comments received, go to the FSIS Docket Room at Patriots Plaza 3, 355 E Street SW., Room 8-163A, Washington, DC 20250-3700, between 8:00 a.m. and 4:30 p.m., Monday through Friday.

Please state that your comments refer to Codex and, if your comments relate to specific Codex committees, please identify those committees in your comments and submit a copy of your comments to the delegate from that particular committee.

FOR FURTHER INFORMATION CONTACT: Mary Frances Lowe, United States Manager for Codex, U.S. Department of Agriculture, Office of Food Safety, Room 4861, South Agriculture Building, 1400 Independence Avenue SW., Washington, DC 20250-3700; telephone: (202) 205-7760; fax: (202) 720-3157; email: USCodex@fsis.usda.gov.

For information pertaining to particular committees, the delegate of that committee may be contacted. (A complete list of U.S. delegates and alternate delegates can be found in Attachment 2 of this notice.) Documents pertaining to Codex and specific committee agendas are accessible via the Internet at http://www.codexalimentarius.org/meetings-reports/en/. The U.S. Codex Office also maintains a Web site at http://www.fsis.usda.gov/wps/portal/fsis/topics/international-affairs/us-codex-alimentarius.

SUPPLEMENTARY INFORMATION:

Background

The World Trade Organization (WTO) was established on January 1, 1995, as the common international institutional framework for the conduct of trade relations among its members in matters related to the Uruguay Round Trade Agreements. The WTO is the successor organization to the General Agreement on Tariffs and Trade (GATT). U.S. membership in the WTO was approved and the Uruguay Round Agreements Act was signed into law by the President on December 8, 1994. The Uruguay Round Agreements became effective, with respect to the United States, on January 1, 1995. Pursuant to section 491 of the Trade Agreements Act of 1979, as amended, the President is required to designate an agency to be “responsible for informing the public of the sanitary and phytosanitary (SPS) standard-setting activities of each international standard-setting organization.” The main organizations are Codex, the World Organisation for Animal Health, and the International Plant Protection Convention. The President, pursuant to Proclamation No. 6780 of March 23, 1995 (60 FR 15845), designated the U.S. Department of Agriculture as the agency responsible for informing the public of the SPS standard-setting activities of each international standard-setting organization. The Secretary of Agriculture has delegated to the Office of Food Safety the responsibility to inform the public of the SPS standard-setting activities of Codex. The Office of Food Safety has, in turn, assigned the responsibility for informing the public of the SPS standard-setting activities of Codex to the U.S. Codex Office.

Codex was created in 1963 by two United Nations organizations, the Food and Agriculture Organization (FAO) and the World Health Organization (WHO). Codex is the principal international organization for establishing standards for food. Through adoption of food standards, codes of practice, and other guidelines developed by its committees and by promoting their adoption and implementation by governments, Codex seeks to protect the health of consumers, ensure fair practices in the food trade, and promote coordination of food standards work undertaken by international governmental and nongovernmental organizations. In the United States, U.S. Codex activities are managed and carried out by the United States Department of Agriculture (USDA); the Food and Drug Administration (FDA), Department of Health and Human Services (HHS); the National Oceanic and Atmospheric Administration (NOAA), Department of Commerce (DOC); and the Environmental Protection Agency (EPA).

As the agency responsible for informing the public of the SPS standard-setting activities of Codex, the Office of Food Safety publishes this notice in the Federal Register annually. Attachment 1 (Sanitary and Phytosanitary Activities of Codex) sets forth the following information:

1. The SPS standards under consideration or planned for consideration; and

2. For each SPS standard specified:

a. A description of the consideration or planned consideration of the standard;

b. Whether the United States is participating or plans to participate in the consideration of the standard;

c. The agenda for United States participation, if any; and

d. The agency responsible for representing the United States with respect to the standard.

To Obtain Copies of the Standards Listed in Attachment 1, Please Contact the Codex Delegate or the U.S. Codex Office.

This notice also solicits public comment on standards that are currently under consideration or planned for consideration and recommendations for new standards. The delegate, in conjunction with the responsible agency, will take the comments received into account in participating in the consideration of the standards and in proposing matters to be considered by Codex.

The United States delegate will facilitate public participation in the United States Government's activities relating to Codex Alimentarius. The United States delegate will maintain a list of individuals, groups, and organizations that have expressed an interest in the activities of the Codex committees and will disseminate information regarding United States delegation activities to interested parties. This information will include the status of each agenda item; the United States Government's position or preliminary position on the agenda items; and the time and place of planning meetings and debriefing meetings following Codex committee sessions. In addition, the U.S. Codex Office makes much of the same information available through its Web page, http://www.fsis.usda.gov/wps/portal/fsis/topics/international-affairs/us-codex-alimentarius. If you would like to access or receive information about specific committees, please visit the Web page or notify the appropriate U.S. delegate or the U.S. Codex Office, Room 4861, South Agriculture Building, 1400 Independence Avenue SW., Washington, DC 20250-3700 (uscodex@fsis.usda.gov).

The information provided in Attachment 1 describes the status of Codex standard-setting activities by the Codex Committees for the time periods from June 1, 2013, to May 31, 2014, and June 1, 2014, to May 31, 2015. Attachment 2 provides a list of U.S. Codex Officials (including U.S. delegates and alternate delegates). A list of forthcoming Codex sessions may be found at: http://www.codexalimentarius.org/meetings-reports/en/.

Additional Public Notification

FSIS will announce this notice online through the FSIS Web page located at: http://www.fsis.usda.gov/wps/portal/fsis/topics/regulations/fsis-notices.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/wps/portal/fsis/programs-and-services/email-subscription-service. Options range from recalls to export information to regulations, directives and notices. Customers can add or delete subscriptions themselves, and have the option to password protect their accounts.

Done at Washington, DC, on June 9, 2014.
Paulo Almeida,
Associate U.S. Manager for Codex Alimentarius.

Attachment 1

Sanitary and Phytosanitary Activities of Codex

Codex Alimentarius Commission and Executive Committee

The Codex Alimentarius Commission will hold its Thirty Seventh Session July 14-18, 2014, in Geneva, Switzerland. At that time, it will consider standards, codes of practice, and related matters forwarded to the Commission by the general subject committees, commodity committees, and ad hoc Task Forces for adoption as Codex standards and guidance. The Commission will also consider the implementation status of the Codex Strategic Plan, the management of the Trust Fund for the Participation of Developing Countries and Countries in transition in the work of the Codex Alimentarius, as well as financial and budgetary issues.

Prior to the Commission meeting, the Executive Committee will meet at its Sixty-ninth session, July 8-11, 2014. It is composed of the chairperson; vice-chairpersons; seven members elected from the Commission from each of the following geographic regions: Africa, Asia, Europe, Latin America and the Caribbean, Near East, North America, and South-West Pacific; and regional coordinators from the six regional committees. The United States is the elected representative from North America. The Executive Committee will conduct a critical review of the elaboration of Codex standards; consider applications from international non-governmental organizations for observer status in Codex; consider the Codex Strategic Plan and the capacity of the Secretariat; review matters arising from reports of Codex Committees and proposals for new work; and review the Food and Agriculture Organization and the World Health Organisation (FAO/WHO) Trust Fund for Enhanced Participation in Codex.

Responsible Agency: USDA/FSIS.

U.S. Participation: Yes.

Codex Committee on Residues of Veterinary Drugs in Foods

The Codex Committee on Residues of Veterinary Drugs in Foods (CCRVDF) determines priorities for the consideration of residues of veterinary drugs in foods and recommends Maximum Residue Limits (MRLs) for veterinary drugs. The Committee also develops codes of practice, as may be required, and considers methods of sampling and analysis for the determination of veterinary drug residues in food. A veterinary drug is defined as any substance applied or administered to any food producing animal, such as meat or milk producing animals, poultry, fish or bees, whether used for therapeutic, prophylactic or diagnostic purposes, or for modification of physiological functions or behavior.

A Codex Maximum Residue Limit (MRL) for Residues of Veterinary Drugs is the maximum concentration of residue resulting from the use of a veterinary drug (expressed in mg/kg or ug/kg on a fresh weight basis) that is recommended by the Codex Alimentarius Commission to be permitted or recognized as acceptable in or on a food. Residues of a veterinary drug include the parent compounds or their metabolites in any edible portion of the animal product, and include residues of associated impurities of the veterinary drug concerned. An MRL is based on the type and amount of residue considered to be without any toxicological hazard for human health as expressed by the Acceptable Daily Intake (ADI) or on the basis of a temporary ADI that utilizes an additional safety factor. The MRL also takes into account other relative public health risks as well as food technological aspects.

When establishing an MRL, consideration is also given to residues that occur in food of plant origin or the environment. Furthermore, the MRL may be reduced to be consistent with official recommended or authorized usage, approved by national authorities, of the veterinary drugs under practical conditions.

An Acceptable Daily Intake (ADI) is an estimate made by the Joint FAO/WHO Expert Committee on Food Additives (JECFA) of the amount of a veterinary drug, expressed on a body weight basis, which can be ingested daily in food over a lifetime without appreciable health risk.

The Committee held its 21st session in Minneapolis, Minnesota, August 26-30, 2013. The following items are to be considered for adoption by the 37th session of the Commission in July 2014:

To be considered for adoption:

• Draft provisions on Extrapolation of Maximum Residue Limits of Veterinary Drugs to Additional Species

• Draft provisions of the Use of the Concern Form for the CCRVDF

To be considered at Step 5/8:

• Proposed draft Risk Management Recommendations (RMRs) for chloramphenicol, malachite green, carbadox, furazolidone, nitrofural, chlorpromazine, stilbenes and olaquindox

• Proposed draft Performance Characteristics for Multi-Residue Methods (MRMs) for Veterinary Drugs

The Committee will continue working on:

• Draft Maximum Residue Limits for monepantel

• Proposed draft Maximum Residues Limits for derquantel

• Proposed draft Risk Management Recommendations for dimitridazole, ipronidazole, metronidazole, and ronidazole

• Priority List of Veterinary Drugs Requiring Evaluation or Re-Evaluation by JECFA

• Draft provisions on establishment of MRLs for honey

• Discussion paper regarding the issues and concerns that impact the ability of the CCRVDF to efficiently perform its work

• Database on countries needs for MRLs

• Alternative approach to move compounds from the database on countries needs for MRLs to the JECFA Priority List

Responsible Agencies: HHS/FDA/CVM; USDA/FSIS.

U.S. Participation: Yes.

Codex Committee on Contaminants in Foods

The Codex Committee on Contaminants in Foods (CCCF) establishes or endorses permitted maximum levels (ML) and, where necessary, revises existing guidelines levels for contaminants and naturally occurring toxicants in food and feed; prepares priority lists of contaminants and naturally occurring toxicants for risk assessment by the Joint FAO/WHO Expert Committee on Food Additives; considers and elaborates methods of analysis and sampling for the determination of contaminants and naturally occurring toxicants in food and feed; considers and elaborates standards or codes of practice for related subjects; and considers other matters assigned to it by the Commission in relation to contaminants and naturally occurring toxicants in food and feed.

The Committee held its Eighth Session in The Hague, The Netherlands, March 31-April 4, 2014. The relevant document is REP14/CF. The following items are to be considered for adoption by the 37th Session of the Commission in July 2014:

• Editorial amendments to the General Standard for Contaminants and Toxins in Food & Feed (Codex Stan 193-1995)

To be considered at Step 5/8:

• Proposed draft maximum levels for lead in infant formula and formula for special medical purposes intended for infants and for follow up formula

• Proposed draft maximum levels for inorganic arsenic in polished rice

• Proposed draft maximum levels for fumonisins in maize and maize products and associated sampling plans

• Proposed draft annex for the prevention and reduction of aflatoxins and ochratoxin A contamination in sorghum (Code of Practice for the Prevention and Reduction of Mycotoxin Contamination in Cereals (CAC/RCP 51-2003)

• Proposed draft Code of Practice for Weed Control To Prevent and Reduce Pyrollizidine Alkaloid Contamination in Food and Feed

The Committee will continue working on:

• Proposed draft maximum levels for DON in raw cereal grains (wheat, maize and barley) including sampling plans and in flour, meal, semolina and flakes derived from wheat, maize or barley

• Maximum levels for lead in fruit juices and nectars (ready to drink), canned fruits and canned vegetables

• Maximum levels for lead in selected fruits and vegetables

• Proposed draft maximum levels for inorganic arsenic in husked rice

• Proposed draft Code of Practice for the Prevention and Reduction or Arsenic Contamination in Rice

• Proposed draft revision of the Code of Practice for the Prevention and Reduction of Mycotoxin Contamination in Cereals (CAC/RCP 51-2003)

• Proposed draft maximum level for total aflatoxins in ready to eat peanuts

• Proposed draft maximum levels for cadmium in chocolate and cocoa-derived products

• Proposed draft maximum levels for acetylated derivatives (DON) in cereals and cereal-based products

The Committee will work on the following discussion papers:

• Submission and use of data from GEMS/Food

• Radionuclides

• Approaches for phasing in of lower MLs

• Maximum levels for methylmecury in fish

• Mycotoxin contamination in spices (prioritization for potential work on MLs in spices)

• Feasibility of developing a code of practice for mycotoxins in spices

• Priority list of contaminants and naturally occurring toxicants proposed for evaluation by JECFA

Responsible Agencies: HHS/FDA; USDA/FSIS.

U.S. Participation: Yes.

Codex Committee on Food Additives

The Codex Committee on Food Additives (CCFA) establishes or endorses acceptable maximum levels (MLs) for individual food additives; prepares a priority list of food additives for risk assessment by the Joint FAO/WHO Expert Committee on Food Additives (JECFA); assigns functional classes to individual food additives; recommends specifications of identity and purity for food additives for adoption by the Codex Alimentarius Commission; considers methods of analysis for the determination of additives in food; and considers and elaborates standards or codes of practice for related subjects such as the labeling of food additives when sold as such. The 46th Session of the Committee met in Hong Kong, China, March 17-21, 2014. The relevant document is REP14/FA. Immediately prior to the Plenary Session, there was a 2-day physical Working Group on the General Standard for Food Additives (GSFA) chaired by the United States.

The following items will be considered by the 37th Session of the Commission in July 2014.

To be considered for adoption:

• Amendments to the Notes of the GSFA

• Revised provisions for aluminum-containing food additives in selected standards

• Revised food additive sections of standards for meat products

• Revised food additive provisions of food category 08.0 (Meat and Meat products, including poultry) and its sub-categories of GSFA

To be considered for adoption at Step 8 & 5/8:

• Draft and proposed draft food additive provisions of the GSFA

To be considered for adoption at Step 5/8:

• Proposed draft Guidelines for the Simple Evaluation of Dietary Exposure to Food Additives (revision of CAC/GL 3-1989)

• Proposed draft amendments to the International Numbering System (INS) for Food Additives (CAC/GL 36-1989)

• Proposed draft specifications for the identity and purity of food additives

The Committee will continue working on:

• Proposed draft food additive provisions of the GSFA (electronic Working Group (eWG) led by the United States)

○ Food additive provisions in Tables 1 and 2 of the GSFA for Table 3 food additives with “emulsifier, stabilizer, or thickener” function, for their use for technological function other than as emulsifiers, stabilizers, or thickeners

○ Food additive provisions in Table 1 and 2 of the GSFA in food categories 01.2 through 08.4, with the exclusion of food categories 04.1.2.4, 04.2.2.4, 04.2.2.5, 04.2.2.6, 05.1.1, 05.1.3 and 05.1.4

• Alignment of the food additive provisions of commodity standards and relevant provisions of the GSFA (eWG led by Australia)

• Food additive provisions for food category 14.2.3 (Grape wines) and its sub-categories of the GSFA (eWG led by France)

• Food category descriptors and GSFA food additive provisions for food category 01.1 (Milk and dairy-based drinks) and its sub-categories of the GSFA (eWG led by New Zealand)

• The effect of replacing GSFA Note 161 (“Subject to national legislation of the importing country aimed, in particular, at consistency with Section 3.2 of the Preamble.”) with an alternative note (or notes) to provisions for selected sweeteners (eWG led by the United Kingdom, with the assistance of the United States)

• Discussion paper on secondary additives (European Union)

• Discussion paper on the inconsistent terminology related to flavorings in the Guidelines for the Use of Flavourings (CAC/GL 66-2008) and other Codex texts

• Amendments to the INS for food additives

• Specifications for the Identity and Purity of Food Additives (79th JECFA)

• Proposal for additions and changes to the Priority List of Substances Proposed for Evaluation by JECFA

• Information on the availability of data for the re-evaluation of six priority colors by JECFA

• Information document on the GSFA

• Information document on food additive provisions in commodity standards

The Committee also agreed to hold a physical Working Group on the GSFA immediately preceding the 47th session of CCFA to be chaired by the United States. That group will discuss:

• The recommendations of the eWGs on: (i) The GSFA, (ii) the food additive provisions in food category 14.2.3 (Grape wines), (iii) the revision of food category 01.1 (Milk and dairy-based drinks) and its sub-categories, and (iv) Note 161 of the GSFA

• Proposed draft provisions for nisin (INS 234) in certain meat categories

• New proposals and proposed revisions of food additive provisions in the GSFA

Responsible Agency: HHS/FDA.

U.S. Participation: Yes.

Codex Committee on Pesticide Residues

The Codex Committee on Pesticide Residues (CCPR) is responsible for establishing maximum limits for pesticide residues in specific food items or in groups of food; establishing maximum limits for pesticide residues in certain animal feeding stuffs moving in international trade where this is justified for reasons of protection of human health; preparing priority lists of pesticides for evaluation by the Joint FAO/WHO Meeting on Pesticide Residues (JMPR); considering methods of sampling and analysis for the determination of pesticide residues in food and feed; considering other matters in relation to the safety of food and feed containing pesticide residues and; establishing maximum limits for environmental and industrial contaminants showing chemical or other similarity to pesticides in specific food items or groups of food.

The 46th Session of the Committee met in Nanjing, China, May 5-10, 2014. The relevant document is REP14/PR. The following items will be considered at the 37th Session of the Codex Alimentarius Commission in July 2014.

For adoption:

• Proposed revision of the Risk Analysis Principles applied by the Codex Committee on Pesticide Residues for inclusion in the Procedural Manual

To be considered at Steps 8 and 5/8:

• Draft and proposed draft Maximum Residue Limits for Pesticides in Foods and Feeds

The Committee will continue working on:

• Draft revision of the Classification of Food and Feed: selected Vegetable Commodity Groups

• Proposed draft Principles and Guidelines for the Selection of Representative Commodities for the Extrapolation of Maximum Residue Limits for Commodity Groups—Table 2

• Draft Guidelines on Performance Criteria Specific for Methods of Analysis for the Determination of Pesticide Residues

• Discussion paper on Guidance to Facilitate the Establishment of Maximum Residue Limits for Pesticides for Minor Use/Specialty Crops

Responsible Agencies: EPA; USDA/FSIS.

U.S. Participation: Yes.

Codex Committee on Methods of Analysis and Sampling

The Codex Committee on Methods of Analysis and Sampling (CCMAS) defines the criteria appropriate to Codex Methods of Analysis and Sampling; serves as a coordinating body for Codex with other international groups working on methods of analysis and sampling and quality assurance systems for laboratories; specifies, on the basis of final recommendations submitted to it by the bodies referred to above, reference methods of analysis and sampling appropriate to Codex standards which are generally applicable to a number of foods; considers, amends if necessary, and endorses as appropriate, methods of analysis and sampling proposed by Codex commodity committees, except for methods of analysis and sampling for residues of pesticides or veterinary drugs in food, the assessment of microbiological quality and safety in food, and the assessment of specifications for food additives; elaborates sampling plans and procedures, as may be required; considers specific sampling and analysis problems submitted to it by the Commission or any of its Committees; and defines procedures, protocols, guidelines or related texts for the assessment of food laboratory proficiency, as well as quality assurance systems for laboratories.

The 35th Session of the Committee met in Budapest, Hungary, March 3-7, 2014. The relevant document is REP14/MAS. The following items will be considered by the Commission at its 37th Session in July 2014.

To be considered for adoption:

• Methods of Analysis and Sampling in Codex Standards at different steps

The Committee will continue working on:

• Explanatory notes to the Principles for the Use of Sampling and Testing in International Food Trade (CAC/GL 83-2013)

• Discussion paper on the development of procedures/guidelines for determining equivalency to Type I methods

• Discussion paper on the development of a criteria approach for methods which use a “sum of components”

• Compilation of a single list of methods in CODEX STAN 234-1999 and commodity standards to conduct a validation exercise

• Follow-up on proposals for amendments to methods of analysis and proposals for sampling plans

Responsible Agencies: HHS/FDA; USDA/GIPSA.

Codex Committee on Food Import and Export Inspection and Certification Systems

The Codex Committee on Food Import and Export Inspection and Certification Systems is responsible for developing principles and guidelines for food import and export inspection and certification systems, with a view to harmonizing methods and procedures that protect the health of consumers, ensure fair trading practices, and facilitate international trade in foodstuffs; developing principles and guidelines for the application of measures by the competent authorities of exporting and importing countries to provide assurance, where necessary, that foodstuffs comply with requirements, especially statutory health requirements; developing guidelines for the utilization, as and when appropriate, of quality assurance systems to ensure that foodstuffs conform with requirements and promote the recognition of these systems in facilitating trade in food products under bilateral/multilateral arrangements by countries; developing guidelines and criteria with respect to format, declarations, and language of such official certificates as countries may require with a view towards international harmonization; making recommendations for information exchange in relation to food import/export control; consulting as necessary with other international groups working on matters related to food inspection and certification systems; and considering other matters assigned to it by the Commission in relation to food inspection and certification systems.

The next session of the Committee will meet in Brisbane, Australia, October 13-17, 2014. The following agenda items will be discussed:

• Discussion paper on Principles and Guidelines for Monitoring Regulatory Performance of National Food Control Systems

• Discussion paper on the revision of the Principles and Guidelines for the Exchange of Information in Food Safety Emergency Situations

• Draft amendments to the Guidelines for the Exchange of Information between Countries on Rejections of Imported Food

Responsible Agencies: HHS/FDA; USDA/FSIS.

U.S. Participation: Yes.

Codex Committee on Food Labelling

The Codex Committee on Food Labelling drafts provisions on labeling applicable to all foods; considers, amends, and endorses draft specific provisions on labeling prepared by the Codex Committees drafting standards, codes of practice, and guidelines; and studies specific labeling problems assigned by the Codex Alimentarius Commission. The Committee also studies problems associated with the advertisement of food with particular reference to claims and misleading descriptions.

The Committee will hold its 42nd Session in Canada, October 21-24, 2014. The Committee plans to continue work on the following items:

• Guidelines for the Production, Processing, Labeling and Marketing of Organically Produced Foods: Organic Aquaculture

• Review of the General Standard for the Labeling of Prepackaged Foods to address the issue on date marking

• Discussion paper on the labeling of non-retail containers

• Discussion paper on issues related to internet sales of food

Responsible Agencies: HHS/FDA; USDA/FSIS.

U.S. Participation: Yes.

Codex Committee on Food Hygiene

The Codex Committee on Food Hygiene (CCFH):

• Develops basic provisions on food hygiene applicable to all food or to specific food types;

• Considers and amends or endorses provisions on food hygiene contained in Codex commodity standards and codes of practice developed by other Codex commodity committees;

• Considers specific food hygiene problems assigned to it by the Commission;

• Suggests and prioritizes areas where there is a need for microbiological risk assessment at the international level and develops questions to be addressed by the risk assessors; and

• Considers microbiological risk management matters in relation to food hygiene and in relation to FAO/WHO risk assessments.

The Committee held its 45th session in Hanoi, Viet Nam, November 11-15, 2013. The reference document is REP 14/FH. The following items will be considered by the Commission at its 37th Session in July 2014.

To be considered for adoption:

• Proposed amendments to the definitions for hazard characterization, risk communication, risk estimate and risk management in the Principles and Guidelines for the Conduct of Microbiological Risk Assessment (CAC/GL 30-1999)

To be considered for adoption at Step 5/8:

• Proposed draft Guidelines for the Control of Trichinella spp. in Meat of Suidae

• Proposed draft Guidelines for the Control of Taenia saginata in Meat of Domestic Cattle

• Proposed draft revision of the Code of Hygienic Practice for Spices and Dried Aromatic Herbs (CAC/RCP 42-1995)

The Committee agreed to request the Commission to approve new work on:

• Guidelines for the Control of Nontyphoidal Salmonella spp. in Beef and Pork Meat

• Guidelines on the Application of General Principles of Food Hygiene to the Control of Foodborne Parasites

The Committee will continue working on:

• Annex on statistical and mathematical considerations to the Principles and Guidelines for the Establishment and Application of Microbiological Criteria Related to Foods (CAC/GL 21-1997)

• Proposed draft Code of Hygienic Practice for Low-Moisture Foods

• Review of a consolidated revision of the Code of Hygienic Practice for Fresh Fruits and Vegetables (CAC/RCP 53-2003)

• Applicability of draft criteria for evaluating and prioritizing new work and considerations for new work

Responsible Agencies: HHS/FDA; USDA/FSIS.

U.S. Participation: Yes.

Codex Committee on Fresh Fruits and Vegetables

The Codex Committee on Fresh Fruits and Vegetables (CCFFV) is responsible for elaborating worldwide standards and codes of practice as may be appropriate for fresh fruits and vegetables; for consulting with the UNECE Working Party on Agricultural Quality Standards in the elaboration of worldwide standards and codes of practice, with particular regard to ensuring that there is no duplication of standards or codes of practice and that they follow the same broad format; and for consulting, as necessary, with other international organizations which are active in the area of standardization of fresh fruits and vegetables.

The 18th Session of the Committee met in Phuket, Thailand, February 24-28, 2014. The relevant document is REP14/FFV. The following items will be considered by the 37th Session of the Commission in July 2014.

To be considered for adoption at Step 8:

• Draft Standard for Passion Fruit

To be considered at Step 5/8:

• Proposed draft Standard for Durian

• Proposed draft Standard for Okra

The Committee will continue working on:

• Proposed draft Standard for Ware Potato

• Proposed draft Standard for Garlic

• Proposed draft Standard for Aubergines

• Proposed draft Standard for Kiwifruit

• Minimum maturity requirements for table grapes (Standard for Table Grapes CODEX STAN 255-2007)

• Proposals for new work for Codex standards for fresh fruits and vegetables

• Review of the terms of reference of the Committee on Fresh Fruits and Vegetables

• Proposed layout for Codex standards for fresh fruits and vegetables

Responsible Agencies: USDA/AMS; HHS/FDA.

U.S. Participation: Yes.

Codex Committee on Nutrition and Foods for Special Dietary Uses

The Codex Committee on Nutrition and Foods for Special Dietary Uses (CCNFSDU) is responsible for studying nutrition issues referred to it by the Codex Alimentarius Commission. The Committee also drafts general provisions, as appropriate, on nutritional aspects of all foods and develops standards, guidelines, or related texts for foods for special dietary uses in cooperation with other committees where necessary; considers, amends if necessary, and endorses provisions on nutritional aspects proposed for inclusion in Codex standards, guidelines, and related texts.

The Committee held its 35th Session in Bad Soden am Taunus, Germany, November 4-8, 2013. The reference document is REP 14/NSFDU. The following items will be considered by the Commission at its 37th Session in July 2014.

To be considered for adoption:

• Proposed draft Additional or Revised Nutrient Reference Values for Labeling Purposes in the Codex Guidelines on Nutrition Labeling (Protein)

To be considered at Step 5:

• Proposed draft revision of the Codex General Principles for the Addition of Essential Nutrients to Foods (CAC/GL 9-1987)

The Committee will continue working on:

• Proposal to review the Codex Standard for Follow-up Formula (CODEX STAN 156-1987)

• Proposed draft Additional or Revised Nutrient Reference Values for Labeling Purposes in the Codex Guidelines on Nutrition Labeling (other values than protein)

• Proposed draft Amendment to the Standard for Processed Cereal-Based Foods for Infants and Young Children to include a New Part B for Underweight Older infants and Young Children

• Potential NRV for Potassium in relation to the risk of NCD

• Proposed draft revision of the List of Food Additives

• Discussion paper on biofortification

Responsible Agencies: HHS/FDA; USDA/ARS.

U.S. Participation: Yes.

Codex Committee on Fish and Fishery Products

The Fish and Fishery Products Committee (CCFFP) is responsible for elaborating standards for fresh, frozen and otherwise processed fish, crustaceans, and mollusks. The Committee held its 33rd Session in Bergen, Norway, February 17-21, 2014. The relevant document is REP14/FFP. The following items are to be considered for adoption by the 37th Session of the Commission in July 2014.

To be considered for adoption:

• Food additive provisions in Standards for Fish and Fishery Products

To be considered at Step 8:

• Draft Performance Criteria for Methods for the Determination of Marine Biotoxins (Section I-8.6) in the Standard for Live and Raw Bivalve Molluscs

• Draft Standard for Fresh and Quick Frozen Raw Scallop Products

To be considered at Step 5:

• Proposed draft Code of Practice of Processing of Fish Sauce

The Committee will continue working on:

• Proposed draft Code of Practice on the Processing of Fresh and Quick Frozen Raw Scallop Products

• Proposed draft Code of Practice for Fish and Fishery Products (section on Sturgeon Caviar)

• Food additive provisions in Standards for Fish and Fishery Products

• Discussion paper on histamine

• Discussion paper on nitrogen factors (amendments to section 7.4 of the Standard for Quick Frozen Fish Sticks (Fish Fingers), Fish portions and Fish fillets-Breaded or in Batter (CODEX STAN 166-1989))

• Proposed draft Code of Practice for Fish and Fishery Products (optional final product requirements for commodities/appendix on MAP)

• New work proposal on a Standard for Fresh Chilled Pirarucu Fillet of Whole Fish

Responsible Agencies: HHS/FDA; USDC/NOAA/NMFS.

U.S. Participation: Yes.

Codex Committee on Fats and Oils

The Codex Committee on Fats and Oils (CCFO) is responsible for elaborating worldwide standards for fats and oils of animal, vegetable, and marine origin, including margarine and olive oil.

The Committee will hold its 24th session in Malaysia, February 9-13, 2015, and will continue working on the following items:

• Proposed draft Standard for Fish Oils

• Amendments to the lists of acceptable previous cargoes in the Code of Practice for the Storage and Transport of Edible Fats and Oils in Bulk (CAC/RCP 36-1987)

• Discussion paper on cold pressed oils

• Discussion paper on the amendment of the Standard for Named Vegetable Oils: High Oleic Soybean Oil

Responsible Agencies: HHS/FDA; USDA/ARS.

U.S. Participation: Yes.

Codex Committee on Processed Fruits and Vegetables

The Codex Committee on Processed Fruits and Vegetables (CCPFV) is responsible for elaborating worldwide standards and related text for all types of processed fruits and vegetables including but not limited to canned, dried, and frozen products, as well as fruit and vegetable juices and nectars.

The 27th session of the CCPFV will meet in Philadelphia, Pennsylvania, September 7-12, 2014. The Committee plans to discuss the following items:

• Proposed draft Sampling Plan including Metrological Provisions for Controlling the Minimum Drained Weight in Canned Fruits and Vegetables in Packing Media

• Proposed draft annexes on pears and pineapples (proposed draft Standard for Certain Canned Fruits)

• Proposed draft annexes on several quick frozen vegetables (proposed draft Standard for Certain Quick Frozen Vegetables)

• Proposal for the extension of the territorial application of the Regional Standard for Ginseng Products

• Food additive provisions in the Standards for Pickled Fruits and Vegetables (CODEX STAN 260-2007), Canned Bamboo Shoots (CODEX STAN 241-2003) and the Annex on Mushrooms of the Standard for Certain Canned Vegetables (CODEX STAN 297-2009)

• Packing media provisions for pickled vegetables in the Standard for Pickled Fruits and Vegetables (CODEX STAN 260-2007)

• Status of work on the revision of Codex Standards for Processed Fruits and Vegetables

Responsible Agencies: USDA/AMS; HHS/FDA.

U.S. Participation: Yes.

Certain Codex Commodity Committees

Several Codex Alimentarius Commodity Committees have adjourned sine die. The following Committees fall into this category:

• Cereals, Pulses and Legumes

Responsible Agency: HHS/FDA.

U.S. Participation: Yes.

• Cocoa Products and Chocolate

Responsible Agency: HHS/FDA.

U.S. Participation: Yes.

• Meat Hygiene

Responsible Agency: USDA/FSIS.

U.S. Participation: Yes.

• Milk and Milk Products

Responsible Agencies: USDA/AMS; HHS/FDA.

U.S. Participation: Yes.

• Natural Mineral Waters

Responsible Agency: HHS/FDA.

U.S. Participation: Yes.

• Sugars

Responsible Agency: HHS/FDA

U.S. Participation: Yes.

• Vegetable Proteins

Responsible Agency: USDA/ARS.

U.S. Participation: Yes.

FAO/WHO Regional Coordinating Committees

The FAO/WHO Regional Coordinating Committees define the problems and needs of the regions concerning food standards and food control; promote within the Committee contacts for the mutual exchange of information on proposed regulatory initiatives and problems arising from food control and stimulate the strengthening of food control infrastructures; recommend to the Commission the development of worldwide standards for products of interest to the region, including products considered by the Committees to have an international market potential in the future; develop regional standards for food products moving exclusively or almost exclusively in intra-regional trade; draw the attention of the Commission to any aspects of the Commission's work of particular significance to the region; promote coordination of all regional food standards work undertaken by international governmental and non-governmental organizations within each region; exercise a general coordinating role for the region and such other functions as may be entrusted to it by the Commission; and promote the use of Codex standards and related texts by members.

There are six regional coordinating committees:

Coordinating Committee for Africa

Coordinating Committee for Asia

Coordinating Committee for Europe

Coordinating Committee for Latin America and the Caribbean

Coordinating Committee for the Near East

Coordinating Committee for North America and the South West Pacific

Coordinating Committee for Africa

The Committee (CCAfrica) will hold its 21st session in Cameroon, January 27-30, 2015.

The Committee will continue working on:

• Developing a new strategic plan for CCAFRICA

• Identifying and ranking products suitable for a Codex standard (regional or international)

Responsible Agency: USDA/FSIS.

U.S. Participation: Yes (as observer).

Coordinating Committee for Asia

The Committee (CCAsia) will hold its 19th session in Japan, November 3-7, 2014. The Committee will continue working on:

• Proposed draft Standard for Laver Products

• Proposed draft Code of Hygienic Practice for Street-Vended Food

• Discussion paper on new work on a regional standard for edible crickets and their products

Responsible Agency: USDA/FSIS.

U.S. Participation: Yes (as observer).

Coordinating Committee for Europe

The Committee (CCEurope) will hold its 29th session in The Netherlands, September 30-October 03, 2014. The Committee will continue working on:

• Proposed draft Regional Standard for Ayran

Responsible Agency: USDA/FSIS.

U.S. Participation: Yes (as observer).

Coordinating Committee for Latin America and the Caribbean

The Coordinating Committee for Latin America and the Caribbean (CCLAC) will hold its 19th session in Costa Rica, November 10-14, 2014.

The Committee will continue working on:

• Proposed framework for monitoring the work of subsidiary bodies of the Codex Alimentarius Commission

• Proposal for new work on a Codex regional standard for yacón

Responsible Agency: USDA/FSIS.

U.S. Participation: Yes (as observer).

Coordinating Committee for the Near East

The Committee (CCNEA) will hold its 8th session in Lebanon, March 9-13, 2015. The Committee will continue working on:

• Regional Standard for Doogh

• Standard for Halal Food

• Regional Standard for Labneh

• Regional Standard for Mixed Zaatar

• Standard for Refrigerated and Frozen Meat

• Preparation of the Strategic Plan for CCNEA 2015-2020

Responsible Agency: USDA/FSIS.

U.S. Participation: Yes (as observer).

Coordinating Committee for North America and the South West Pacific (CCNASWP)

The Committee (CCNASWP) will hold its 13th Session in Kokopo, Papua New Guinea, September 23-26, 2014.

The committee will continue working on:

• Draft Strategic Plan for the CCNASWP 2014-2019

• Discussion paper on the development of a standard for fermented noni juice

• Discussion paper on the development of a regional standard for kava

• Discussion paper on products of the region that can be addressed by regional standards and mechanism for their prioritization

Responsible Agency: USDA/FSIS.

U.S. Participation: Yes.

Contact: U.S. Codex Office, United States Department of Agriculture, Room 4861, South Agriculture Building, 1400 Independence Avenue SW., Washington, DC 20250-3700, Phone: (202) 205-7760, Fax: (202) 720-3157, Email: uscodex@fsis.usda.gov.

Attachment 2

U.S. Codex Alimentarius Officials

Codex Chairpersons From the United States

Codex Committee on Food Hygiene

Emilio Esteban, DVM, MBA, MPVM, Ph.D., Executive Associate for Laboratory Services, Office of Public Health Science, Food Safety and Inspection Service, U.S. Department of Agriculture, 950 College Station Road, Athens, GA 30605, Phone: (706) 546-3429, Fax: (706) 546-3428, Email: emilio.esteban@fsis.usda.gov.

Codex Committee on Processed Fruits and Vegetables

Richard Boyd, Chief, Contract Services Branch, Specialty Crops Inspection Division, Fruit and Vegetable Program, Agricultural Marketing Service, U.S. Department of Agriculture, 1400 Independence Avenue SW., Mail Stop 0247, Room 0726—South Building, Washington, DC 20250, Phone: (202) 690-1201, Fax: (202) 690-1527, Email: richard.boyd@ams.usda.gov.

Codex Committee on Residues of Veterinary Drugs in Foods

Steven D. Vaughn, DVM, Director, Office of New Animal Drug Evaluation, Center for Veterinary Medicine, U.S. Food and Drug Administration, MPN 2, Room 236, 7520 Standish Place, Rockville, Maryland 20855, Phone: (240) 402-0571, Fax: (240) 276-8242, Email: Steven.Vaughn@fda.hhs.gov.

U.S. Delegates and Alternate Delegates

General Subject Committees

Commodity Committees (Active and Adjourned)

ad hoc Task Forces

Regional Coordinating Committees

Worldwide General Codex Subject Committees

Contaminants in Foods (Host Government—The Netherlands)

U.S. Delegate

Nega Beru, Ph.D., Director, Office of Food Safety (HFS-300), Center for Food Safety and Applied Nutrition, U.S. Food and Drug Administration, 5100 Paint Branch Parkway, College Park, MD 20740, Phone: +1 (240) 402-1700, Fax: +1 (301) 436-2651, Nega.Beru@fda.hhs.gov.

Alternate Delegate

Kerry Dearfield, Ph.D., Chief Scientist, Office of Public Health Science, Food Safety and Inspection Service, U.S. Department of Agriculture, Room 9-195, PP 3 (Mail Stop 3766), 1400 Independence Avenue SW., Washington, DC 20250, Phone: +1 (202) 690-6451, Fax: +1 (202) 690-6337, Kerry.Dearfield@fsis.usda.gov.

Food Additives (Host Government—China)

U.S. Delegate

Susan E. Carberry, Ph.D., Supervisory Chemist, Division of Petition Review, Office of Food Additive Safety (HFS-265), Center for Food Safety and Applied Nutrition, U.S. Food and Drug Administration, 5100 Paint Branch Parkway, College Park, MD 20740, Phone: +1 (240) 402-1269, Fax: +1 (301) 436-2972, Susan.Carberry@fda.hhs.gov.

Alternate Delegate

Paul S. Honigfort, Ph.D., Consumer Safety Officer, Division of Food Contact Notifications (HFS-275), Office of Food Additive Safety, U.S. Food and Drug Administration, 5100 Paint Branch Parkway, College Park, MD 20740, Phone: +1 (240) 402-1206, Fax: +1 (301) 436-2965, Paul.Honigfort@fda.hhs.gov.

Food Hygiene (Host Government—United States)

U.S. Delegate

Jenny Scott, Senior Advisor, Office of Food Safety, Center for Food Safety and Applied Nutrition, U.S. Food and Drug Administration, 5100 Paint Branch Parkway, HFS-300, Room 3B-014, College Park, MD 20740-3835, Phone: +1 (240) 402-2166, Fax: +1 (301) 436-2632, Jenny.Scott@fda.hhs.gov.

Alternate Delegates

Kerry Dearfield, Ph.D., Chief Scientist, Office of Public Health, Science, Food Safety and Inspection Service, U.S. Department of Agriculture, Room 9-195, PP 3 (Mail Stop 3766), 1400 Independence Avenue SW., Washington, DC 20250, Phone: +1 (202) 690-6451, Fax: +1 (202) 690-6337, Kerry.Dearfield@fsis.usda.gov.

Andrew Chi Yuen Yeung, Ph.D., Consumer Safety Officer, CFSAN, U.S. Food and Drug Administration, 5100 Paint Branch Parkway, HFS-316, College Park, MD 20740, United States of America, Phone: +1 (240) 402-1541, Fax: +1 (301) 436-2632, Andrew.Yeung@fda.hhs.gov.

Food Import and Export Certification and Inspection Systems (Host Government—Australia)

U.S. Delegate

Mary Stanley, Director, International Relations and Strategic Planning Staff, Office of Policy and Program Development, Food Safety and Inspection Service, U.S. Department of Agriculture, Room 2925, South Agriculture Building, 1400 Independence Avenue SW., Washington, DC 20250, Phone: +1 (202) 720-0287, Fax: +1 (202) 720-4929, Mary.Stanley@fsis.usda.gov.

Alternate Delegate

Julie Callahan, Ph.D., International Policy Manager, International Affairs Staff, Center for Food Safety and Applied Nutrition, U.S. Food and Drug Administration, 5100 Paint Branch Parkway, (HFS-550), College Park, MD 20740, Phone: +1 (240) 402-2054, Fax: +1 (301) 436-2618, Julie.Callahan@fda.hhs.gov.

Food Labelling (Host Government—Canada)

U.S. Delegate

Felicia B. Billingslea, Director, Food Labeling and Standards Staff, Office of Nutrition, Labeling, and Dietary Supplements, Center for Food Safety and Applied Nutrition, U.S. Food and Drug Administration, 5100 Paint Branch Parkway (HFS-820), College Park, MD 20740, Phone: +1 (240) 402-2371, Fax: +1 (301) 436-2636, felicia.billingslea@fda.hhs.gov.

Alternate Delegate

Jeffrey Canavan, Deputy Director, Labeling and Program Delivery Staff, Division Food Safety and Inspection Service, U.S. Department of Agriculture, 1400 Independence Avenue SW—Stop 5273, Patriots Plaza 3, 8th Floor—161A, Washington, DC 20250, Phone: +1 (301) 504-0860, Fax: +1 (202) 245-4792, jeff.canavan@fsis.usda.gov.

General Principles (Host Government—France)

Delegate Note: A member of the Steering Committee heads the delegation to meetings of the General Principles Committee.

Methods of Analysis and Sampling (Host Government—Hungary)

U.S. Delegate

Gregory O. Noonan, Ph.D., Director, Division of Bioanalytical Chemistry, Division of Analytical Chemistry, Center for Food Safety and Applied Nutrition, Food and Drug Administration, 5100 Paint Branch Parkway, College Park, MD 20740, Phone: +1 (240) 402-2250, Fax: +1 (301) 436-2634, Gregory.Noonan@fda.hhs.gov.

Alternate Delegate

Dr. Timothy Norden, Branch Chief, Grain Inspection, Packers and Stockyards Administration (GIPSA), Technology & Science Division, U.S. Department of Agriculture, 10383 Ambassador Dr., Kansas City, MO, USA 64153, Phone: +1 (816) 891-0470, Fax: +1 (816) 891-8070, timothy.d.norden@gipsa.usda.gov.

Nutrition and Foods for Special Dietary Uses (Host Government—Germany)

U.S. Delegate

Paula R. Trumbo, Ph.D., Nutrition Programs, Office of Nutrition, Labeling and Dietary Supplements, Center for Food Safety and Applied Nutrition, U.S. Food and Drug Administration, 5100 Paint Branch Parkway, HFS-830, College Park, MD 20740, Phone: +1 (240) 402-2579, Fax: +1 (301) 436-1191, Paula.Trumbo@fda.hhs.gov.

Alternate Delegate

Allison Yates, Ph.D., Associate Director, Beltsville Area Agricultural Research Service, U.S. Department of Agriculture, 10300 Baltimore Avenue, Bldg. 003, Room 223, Beltsville, MD 20705, Phone: +1 (301) 504-5193, Fax: +1 (301) 504-5863, Allison.Yates@ars.usda.gov.

Pesticide Residues (Host Government—China)

U.S. Delegate

Lois Rossi, Director of Registration Division, Office of Pesticide Programs, U.S. Environmental Protection Agency, Ariel Rios Building, 1200 Pennsylvania Avenue NW., Washington, DC 20460, Phone: +1 (703) 305-5447, Fax: +1 (703) 305-6920, Rossi.Lois@epa.gov.

Alternate Delegate

Dr. Pat Basu, Senior Leader, Chemistry, Toxicology & Related Sciences, Office of Public Health Science, Food Safety and Inspection Service, U.S. Department of Agriculture, Patriots Plaza III, Room 9-205, 1400 Independence Ave. SW., Washington, DC 20250-3766, Phone: +1 (202) 690-6558, Fax: +1 (202) 690-2364, Pat.Basu@fsis.usda.gov.

Residues of Veterinary Drugs in Foods (Host Government—United States)

U.S. Delegate

Dr. Kevin Greenlees, Senior Advisor for Science & Policy, Office of New Animal Drug Evaluation, HFV-100, Center for Veterinary Medicine, U.S. Food and Drug Administration, 7500 Standish Place, Rockville, MD 20855, Phone: +1 (240) 402-0638, Fax: +1 (240) 276-9538, kevin.greenlees@fda.hhs.gov.

Alternate Delegate

Dr. Charles Pixley, DVM, Ph.D., Director Laboratory Quality Assurance Division, Office of Public Health Science, Food Safety and Inspection Service, U.S. Department of Agriculture, 950 College Station Road, Athens, GA 30605, Phone: +1 (706) 546-3559, Fax: +1 (706) 546-3452, charles.pixley@fsis.usda.gov.

Worldwide Commodity Codex Committees (Active)

Fats and Oils (Host Government—Malaysia)

U.S. Delegate

Dr. Paul South, Review Chemist, Office of Food Safety (HFS-317), Center for Food Safety and Applied Nutrition, U.S. Food and Drug Administration, 5100 Paint Branch Parkway, College Park, MD, USA 20740-3835, Phone: +1 (240) 402-1640, Fax: +1 (301) 436-2632, Paul.South@fda.hhs.gov.

Alternate Delegate

Robert A. Moreau, Ph.D., Research Chemist, Eastern Regional Research Center, Agricultural Research Service, U.S. Department of Agriculture, 600 East Mermaid Lane, Wyndmoor, PA 19038, Phone: +1 (215) 233-6428, Fax: +1 (215) 233-6406, robert.moreau@ars.usda.gov.

Fish and Fishery Products (Host Government—Norway)

U.S. Delegates

Timothy Hansen, Director, Seafood Inspection Program, National Marine Fisheries Services, National Oceanic and Atmospheric Administration, 1315 East West Highway, SSMC#3, Silver Spring, MD 20910, Phone: +1 (301) 427-8314, Fax: +1 (301) 713-1081, Timothy.Hansen@noaa.gov.

Dr. William Jones, Director, Division of Seafood Safety, Office of Food Safety (HFS-325), U.S. Food and Drug Administration, 5100 Paint Branch Parkway, College Park, MD 20740, Phone: +1 (240) 402-2300, Fax: +1 (301) 436-2601, William.Jones@fda.hhs.gov.

Fresh Fruits and Vegetables (Host Government—Mexico)

U.S. Delegate

Dorian LaFond, International Standards Coordinator, Fruit and Vegetables Program, Specialty Crop Inspection Division, Agricultural Marketing Service, U.S. Department of Agriculture, Stop 0247, South Agriculture Building, 1400 Independence Avenue SW., Washington, DC 20250-0247, Phone: +1 (202) 690-4944, Fax: +1 (202) 690-1527, dorian.lafond@usda.gov.

Alternate Delegate

Samir K. Assar, Ph.D., Director, Produce Safety Staff, Office of Food Safety, Food and Drug Administration, Phone: +1 (240) 402-1636, Samir.Assar@fda.hhs.gov.

Processed Fruits and Vegetables (Host Government—United States)

U.S. Delegate

Dorian LaFond, International Standards Coordinator, Fruit and Vegetables Program, Specialty Crop Inspection Division, Agricultural Marketing Service, U.S. Department of Agriculture, Stop 0247, South Agriculture Building, 1400 Independence Avenue SW., Washington, DC 20250-0247, Phone: +1 (202) 690-4944, Fax: +1 (202) 690-1527, Dorian.Lafond@usda.gov.

Alternate Delegate

Yinqing Ma, Ph.D., Consumer Safety Officer, Office of Food Safety (HFS-317), Center for Food Safety and Applied Nutrition, U.S. Food and Drug Administration, 5100 Paint Branch Parkway, College Park, MD 20740, Phone: +1 (240) 402-2479, Fax: +1 (301) 436-2632, Yinqing.Ma@fda.hhs.gov.

Spices and Culinary Herbs (Host Government—India)

U.S. Delegate

Dorian LaFond International Standards Coordinator, Fruit and Vegetables Program, Specialty Crop Inspection Division, Agricultural Marketing Service, U.S. Department of Agriculture, Stop 0247, South Agriculture Building, 1400 Independence Avenue SW., Washington, DC 20250-0247, Phone: +1 (202) 690-4944, Fax: +1 (202) 690-1527, Dorian.Lafond@usda.gov.

Alternate Delegate

George C. Ziobro, Ph.D., Dairy and Egg Branch, HFS-316, Division of Plant and Diary Food Safety, Office of Food Safety, Center for Food Safety and Applied Nutrition, 5100 Paint Branch Parkway, College Park, MD 20740, Phone: +1 (240) 402-1965, George.Ziobro@fda.hhs.gov.

Worldwide Commodity Codex Committees (Adjourned) Cereals, Pulses and Legumes (Adjourned sine die) (Host Government—United States)

U.S. Delegate

Henry Kim, Ph.D., Supervisory Chemist, Division of Plant and Dairy Food Safety, Office of Food Safety, Center for Food Safety and Applied Nutrition, U.S. Food and Drug Administration, 5100 Paint Branch Parkway, College Park, MD 20740, Phone: +1 (240) 402-2023, Fax: +1 (301) 436-2651, henry.kim@fda.hhs.gov.

Cocoa Products and Chocolate (adjourned sine die) (Host Government—Switzerland)

U.S. Delegate

Michelle Smith, Ph.D., Food Technologist, Office of Plant and Dairy Foods and Beverages, Center for Food Safety and Applied Nutrition, U.S. Food and Drug Administration (HFS-306), Harvey W. Wiley Federal Building, 5100 Paint Branch Parkway, College Park, MD 20740-3835, Phone: +1 (240) 402-2024, Fax: +1 (301) 436-2651, michelle.smith@fda.hhs.gov.

Meat Hygiene (Adjourned sine die) (Host Government—New Zealand)

U.S. Delegate

Vacant.

Milk and Milk Products (Adjourned sine die) (Host Government—New Zealand)

U.S. Delegate

Diane D. Lewis, Director, Grading and Standards Division, Dairy Programs, Agricultural Marketing Service, U.S. Department of Agriculture, 1400 Independence Ave. SW., Washington, DC 20250, Phone: +1 (202) 690-0530, Fax: +1 (202) 720-2643, Diane.Lewis@ams.usda.gov.

Alternate Delegate

John F. Sheehan, Director, Division of Plant and Dairy Food Safety, Office of Food Safety, Center for Food Safety and Applied Nutrition, U.S. Food and Drug Administration (HFS-3 15), Harvey W. Wiley Federal Building, 5100 Paint Branch Parkway, College Park, MD 20740, Phone: +1 (240) 402-1488, Fax: +1 (301) 436-2632, john.sheehan@fda.hhs.gov.

Natural Mineral Waters (Adjourned sine die) (Host Government—Switzerland)

U.S. Delegate

Lauren Posnick Robin, Sc.D., Review Chemist, Office of Food Safety, Center for Food Safety and Applied Nutrition, U.S. Food and Drug Administration, Harvey W. Wiley Federal Building, 5100 Paint Branch Parkway, College Park, MD 20740-3835, Phone: +1 (240) 402-1639, Fax: +1 (301) 436-2632, Lauren.Robin@fda.hhs.gov.

Sugars (Adjourned sine die) (Host Government—United Kingdom)

U.S. Delegate

Martin J. Stutsman, J.D., Office of Food Safety (HFS-317), Center for Food Safety and Applied Nutrition, U.S. Food and Drug Administration, 5100 Paint Branch Parkway, College Park, MD 20740-3835, Phone: +1 (240) 402-1642, Fax: +1 (301) 436-2651, Martin.Stutsman@fda.hhs.gov.

Vegetable Proteins (Adjourned sine die)

U.S. Delegate

Vacant.

Ad Hoc Intergovernmental Task Forces

Animal Feeding (Host Government—Switzerland)

U.S. Delegate

Daniel G. McChesney, Ph.D., Director, Office of Surveillance & Compliance, Center for Veterinary Medicine, U.S. Food and Drug Administration, 7529 Standish Place, Rockville, MD 20855, Phone: +1 (240) 453-6830, Fax: +1 (240) 453-6880, Daniel.McChesney@fda.hhs.gov.

Alternate Delegate

Dr. Patty Bennett, Branch Chief, Risk Assessment Division, Office of Public Health Science, Food Safety and Inspection Service, U.S. Department of Agriculture, 901 Aerospace Center, Washington, DC 20250, Phone: +1 (202) 690-6189, patty.bennett@fsis.usda.gov.

Antimicrobial Resistance (Host Government—Republic of Korea)

U.S. Delegate

David G. White, M.S., Ph.D., Director, Office of Research, U.S. Food and Drug Administration, Center for Veterinary Medicine, 8401 Muirkirk Road, Laurel, MD 20708, Phone: +1 (301) 210-4187, Fax: +1 (301) 210-4685, David.White@fda.hhs.gov.

Alternate Delegate

Neena Anandaraman, DVM, MPH, Veterinary Medical Officer, Applied Epidemiology Division, Office of Public Health Science, Food Safety and Inspection Service, U.S. Department of Agriculture, Stop 3777, PP3, 9-241B, 1400 Independence Ave. SW., Washington, DC 20250, Phone: +1 (202) 690-6429, Fax: +1 (202) 690-6364, neena.anandaraman@fsis.usda.gov.

[FR Doc. 2014-13790 Filed 6-12-14; 8:45 am]

BILLING CODE 3410-DM-P